DEPARTMENT OF TRANSPORTATION

Federal Railroad Administration

[Docket No. FRA-2024-0009]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before July 29, 2024.

ADDRESSES: Written comments and recommendations for the proposed ICR should be submitted on regulations.gov to the docket, Docket No. FRA-2024-0009. All comments received will be posted without change to the docket, including any personal information provided. Please refer to the assigned OMB control number (2130-0590) in any correspondence submitted. FRA will summarize comments received in a subsequent 30-day notice and include them in its information collection submission to OMB.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60 days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Federal Railroad Administration Alleged Violation and Inquiry Form.

OMB Control Number: 2130-0590.

Abstract: The FRA Alleged Violation and Inquiry Form is a response to section 307(b) of the Rail Safety Improvement Act of 2008, which requires FRA to ”provide a mechanism for the public to submit written reports of potential violations of Federal railroad safety and hazardous materials transportation laws, regulations, and orders to the Federal Railroad Administration.” The FRA Alleged Violation and Inquiry Form allows the public to submit alleged violations, complaints, or inquiries directly to FRA.

The form allows FRA to collect information necessary to investigate the alleged violation, complaint, or inquiry, and to follow up with the submitting party. FRA may share the information collected with partnering States under its State Safety Participation Program and with law enforcement agencies.

In this 60-day notice FRA has made adjustments that increase the overall burden from 70 to 120 hours. The increase in burden hours is a result of an increase in the estimated number of responses for the three-year information collection period. After a thorough review, FRA has estimated that responses will increase from 600 to 1000.

FRA will use the information collected under the form to identify problem areas and take necessary action to prevent potential accidents of the type indicated by the information submitted from occurring.

Type of Request: Extension without change (with changes in estimates) of a currently approved information collection.

Affected Public: Public.

Form(s): FRA F 6180.151.

Respondent Universe: Public.

Frequency of Submission: On occasion.

¹ Source: U.S. Department of Labor, Bureau of Labor Statistics (BLS) Employer Cost for Employee Compensation—December 2023. Hourly wage rate used is $30.33 plus overhead of 30%. Total burdened wage rate is $43.11.

² Total may not add up due to rounding.

Reporting Burden
CFR section | Respondent universe | Total annual responses | Average time per response | Total annual burden hours | Total cost equivalent in U.S. dollars ¹
|  | (A) | (B) | (C = A * B) | (D = C * wage rates)
FRA Alleged Violation and Inquiry Form FRA F 6180.151 | Public | 1000 forms | 7 minutes | 120 | $5,173
Total ² |  | 1000 forms | N/A | 120 | $5,173

Total Estimated Annual Responses: 1000.

Total Estimated Annual Burden: 120 hours.

Total Estimated Annual Burden Hour Dollar Cost Equivalent: $5,173.

FRA informs all interested parties that it may not conduct or sponsor, and a respondent is not required to respond to, a collection of information that does not display a currently valid OMB control number.

Authority: 44 U.S.C. 3501-3520.

Christopher S. Van Nostrand,
Deputy Chief Counsel.

[FR Doc. 2024-11535 Filed 5-24-24; 8:45 am]

BILLING CODE 4910-06-P